DEPARTMENT OF COMMERCE

National Oceanic and Atmospheric Administration

RIN 0648-XA326

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council will hold a meeting of its Spiny Lobster Advisory Panel (AP) in Key West, FL. See SUPPLEMENTARY INFORMATION.

DATES: The meeting will take place April 20, 2011. See SUPPLEMENTARY INFORMATION.

ADDRESSES: The meeting will be held at the Doubletree Grand Key, 3990 S. Roosevelt Blvd., Key West, FL 33040; telephone: (305) 293-1818.

FOR FURTHER INFORMATION CONTACT: Kim Iverson, Public Information Officer, South Atlantic Fishery Management Council, 4055 Faber Place Drive, Suite 201, N. Charleston, SC, 29405; telephone: (843) 571-4366 or toll free (866) SAFMC-10; fax: (843) 769-4520; e-mail: kim.iverson@safmc.net.

SUPPLEMENTARY INFORMATION: Members of the Spiny Lobster AP will meet from 8:30 a.m.-4:30 p.m. on April 20, 2011.

The Spiny Lobster AP will receive an overview of Amendment 10 to the Spiny Lobster Fishery Management Plan for the Gulf and South Atlantic Regions. The amendment meets the requirements of the Magnuson-Stevens Fishery Conservation and Management Act to establish Annual Catch Limits and Accountability Measures for Caribbean spiny lobster and contains additional management alternatives addressing: modifications to the Fishery Management Unit; development or updates to framework procedure and protocol for Enhanced Cooperative Management of spiny lobster; regulations regarding the possession and handling of undersized Caribbean spiny lobsters or “shorts” as attractants for the commercial trap fishery; requirements for tailing permits, sector allocations; limiting spiny lobster fishing in some areas to protect threatened Acropora corals; and requirements for gear marking for trap lines. The AP will discuss the amendment and provide recommendations.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for auxiliary aids should be directed to the council office (see ADDRESSES) 3 days prior to the meeting.

Note: The times and sequence specified in this agenda are subject to change.

Dated: March 24, 2011.
Tracey L. Thompson,
Acting Director, Office of Sustainable Fisheries, National Marine Fisheries Service.

[FR Doc. 2011-7314 Filed 3-28-11; 8:45 am]

BILLING CODE 3510-22-P